DEPARTMENT OF DEFENSE

Department of the Air Force

[Docket ID USAF-2009-0053]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: This proposed action will be effective without further notice on September 8, 2009 unless comments are received which result in a contrary determination.

ADDRESSES: Department of the Air Force Privacy Act Office, Office of Warfighting Integration and Chief Information Officer, Attn: SAF/XCPPI, 1800 Air Force Pentagon, Washington DC 20330-1800

FOR FURTHER INFORMATION CONTACT: Mr. Ben M. Swilley, U.S. Air Force Privacy Officer, (703) 696-6172, DSN 426-6172.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: July 27, 2009.
Patricia L. Toppings,
OSD Federal Register Liaison Officer, Department of Defense.

F033 AFNIC A

System Name:

Military Affiliate Radio System (MARS) Member Records (April 12, 1999, 64 FR 17636)

Changes:

* * * * *

Storage:

Delete entry and replace with “Paper records and electronic storage media.”

* * * * *

Safeguards:

Delete entry and replace with “Records are accessed by authorized personnel in the course of their official duties who are properly screened and cleared for need-to-know. Records are also stored in locked file cabinets and password protected electronic media.”

* * * * *

System manager(s) and Address:

Delete entry and replace with “Director of Enterprise Services, HQ AFNIC/ESLI, 203 W. Losey Street, Room 3100, Scott Air Force Base, IL 62225-5222.”

Notification Procedure:

Delete entry and replace with “Individuals seeking to determine whether this system of record contains information on themselves should address written inquires to the Director of Enterprise Services, HQ AFNIC/ESLI, 203 W. Losey Street, Room 3100, Scott Air Force Base, IL 62225-5222.”

Individuals seeking information on this system should provide the individual name's, MARS call sign, amateur call sign, mailing address, Federal Communications license class, military status, telephone number, and date of birth.

Record Access Procedures:

Delete entry and replace with “Individuals seeking to access records about themselves contained in this system should address written requests to the Director of Enterprise Services, HQ AFNIC/ESLI, 203 W. Losey Street, Room 3100, Scott Air Force Base, IL 62225-5222.

Written request should include the individual's name, MARS call sign, amateur call sign, mailing address, Federal Communications license class, military status, telephone number, and date of birth.”

Contesting Record Procedures:

Delete entry and replace with “The Air Force rules for accessing records, and for contesting contents and appealing initial agency determinations are published in Air Force Instruction 33-332; 32 CFR part 806b; or may be obtained from the system manager.”

* * * * *

F033 AFCA A

System Name:

Military Affiliate Radio System (MARS) Member Records.

System Location:

Air Force Network Integration Center (AFNIC), Air Force installations and Military Affiliate Radio System (MARS) member stations. Official mailing addresses are published as an appendix to the Air Force compilation of systems of records notices.

Categories of Individuals Covered by the System:

Amateur Radio Operators licensed by United States Air Force (USAF) Military Affiliate Radio System.

Categories of Records in System:

MARS Personnel Action Notification and Applications of Membership in Military Affiliate Radio System. Information includes individual name, Military Affiliate Radio System call sign, amateur call sign, mailing address, Federal Communications license class, military status, telephone number, and date of birth.

Authority for Maintenance of the System:

10 U.S.C. 8013, Secretary of Air Force, powers and duties; delegation by; as implemented by Air Force Instruction 33-106, Managing High Frequency Radios, Personal Wireless Communication Systems, and the Military Affiliate Radio System.

Purpose(s):

To identify Military Affiliate Radio System members, to describe and update information concerning members, to assign call signs and designator, mailing address, amateur license, telephone number, and responsibilities.

Routine Uses of Records Maintained in the System, Including Categories of Users and the Purposes of Such Uses:

In addition to those disclosures generally permitted under 5 U.S.C. 552a(b) of the Privacy Act of 1974, these records may specifically be disclosed outside the DoD as a routine use pursuant to 5 U.S.C. 552a(b)(3) as follows:

The “Blanket Uses” published at the beginning of the Air Force's compilation of systems of record notices apply to this system.

Policies and Practices for Storing, Retrieving, Accessing, Retaining and Disposing of Records in the System:

Storage:

Paper records and electronic storage media.

Retrievability:

Retrieved by name, by call sign, or designator and geographic location.

Safeguards:

Records are accessed by authorized personnel in the course of their official duties who are properly screened and cleared for need-to-know. Records are also stored in locked file cabinets and password protected electronic media.

Retention and Disposal:

Retained until reassignment or termination of membership, and then destroyed by tearing to pieces, shredding, pulping, macerating or burning.

System Manager(s) and Address:

Director of Enterprise Services, HQ AFNIC/ESLI, 203 W. Losey Street, Room 3100, Scott Air Force Base, IL 62225-5222.

Notification Procedure:

Individuals seeking to determine whether this system of record contains information on themselves should address written inquires to the Director of Enterprise Services, HQ AFNIC/ESLI, 203 W. Losey Street, Room 3100, Scott Air Force Base, IL 62225-5222.

Individuals seeking information on this system should provide the individual name's, MARS call sign, amateur call sign, mailing address, Federal Communications license class, military status, telephone number, and date of birth.

Record Access Procedures:

Individuals seeking to access records about themselves contained in this system should address written requests to the Director of Enterprise Services, HQ AFNIC/ESLI, 203 W. Losey Street, Room 3100, Scott Air Force Base, IL 62225-5222.

Written request should include the individual's name, MARS call sign, amateur call sign, mailing address, Federal Communications license class, military status, telephone number, and date of birth.

Contesting Record Procedures:

The Air Force rules for accessing records, and for contesting contents and appealing initial agency determinations are published in Air Force Instruction 33-332; 32 CFR part 806b; or may be obtained from the system manager.

Record Source Categories:

Individual members and Military Affiliate Radio System officials.

Exemptions Claimed for the System:

None.

[FR Doc. E9-18900 Filed 8-6-09; 8:45 am]

BILLING CODE 5001-06-P